DEPARTMENT OF COMMERCE

Membership of the Economic Development Administration Performance Review Board

AGENCY: Department of Commerce.

ACTION: Notice of Membership on the Economic Development Administration's Performance Review Board.

SUMMARY: In accordance with 5 U.S.C., 4314(c)(4), Department of Commerce (DOC) announce the appointment of persons to serve as members of the Economic Development Administration's (EDA) Performance Review Board (PRB). The EDA PRB is responsible for reviewing performance ratings, pay adjustments and bonuses of Senior Executive Service (SES) members, Presidential Rank Awards. The appointment of these members will be for a period of twenty-four (24) months.

DATES: Effective Date: The effective date of service of appointees to the Economic Development Administration Performance Review Board is upon publication of this notice.

FOR FURTHER INFORMATION CONTACT: Deborah Martin, Director, Office of Executive Resources—Operations, Office of Human Resources Management, Office of the Director, 14th and Constitution Avenue, NW., Washington, DC 20230, (202) 482-3600.

SUPPLEMENTARY INFORMATION: The names, position titles, and type of appointment of the members of the EDA/PRB are set forth below:

Department of Commerce, Economic Development Administration, 2008-2010 Performance Review Board Membership

Department of Commerce/Economic Development Administration

Lisa Casias, Director for Financial Management and Deputy Chief Financial Officer (Chairperson).

Deborah Jefferson, Director for Human Resources Management.

Otto Barry Bird, Chief Counsel for Economic Development.

Matthew Crow, Deputy Assistant Secretary for External Affairs.

Dated: October 15, 2008.
Deborah Martin,
Director, Office of Executive Resources—Operations.

[FR Doc. E8-24942 Filed 10-20-08; 8:45 am]

BILLING CODE 3510-BS-P